DEPARTMENT OF COMMERCE

International Trade Administration

United States-Mexico-Canada Agreement (USMCA), Article 10.12: Binational Panel Reviews: Notice of Completion of Panel Review

AGENCY: United States Section, USMCA Secretariat, International Trade Administration, Department of Commerce.

ACTION: Notice of Completion of Panel Review in the matter of Certain Softwood Lumber Products from Canada: Final Results of Antidumping Duty Administrative Review, 2017-2018 (Secretariat File Number: USA-CDA-2020-10.12-02).

SUMMARY: The USA-CDA-2020-10.12-02 Panel has granted a joint motion for voluntary dismissal filed on behalf of:

The Government of Canada; Canfor Corporation, Canadian Forest Products, Ltd., and Canfor Wood Products Marketing, Ltd. (collectively, “Canfor”); Resolute FP Canada Inc. and affiliates (“Resolute”); West Fraser Mills Ltd.; and the Ontario Forest Industries Association (“OFIA”), the Conseil de l'industrie forestière du Québec (“CIFQ”), and the individual members of OFIA and CIFQ (collectively, the “Canadian Parties”).

The motion requested the termination of panel review in the Certain Softwood Lumber Products from Canada: Final Results of Antidumping Duty Administrative Review, 2017-2018 (Softwood Lumber AD AR) dispute.

Given the Panel's ruling on this motion, and pursuant to Rule 75(1) of the USMCA Rules of Procedure for Article 10.12 Binational Panel Reviews (Rules), the Softwood Lumber from Canada AD AR dispute has been dismissed.

As a result, and in accordance with Rules 81(a) and 82(b), notice is hereby given that panel review of the Softwood Lumber from Canada AD AR dispute has been completed effective October 30, 2025.

FOR FURTHER INFORMATION CONTACT: Vidya Desai, United States Secretary, NAFTA Secretariat, Room 2061, 1401 Constitution Avenue NW, Washington, DC 20230, (202) 482-5438.

SUPPLEMENTARY INFORMATION: Article 10.12 of Chapter 10 of USMCA provides a dispute settlement mechanism involving trade remedy determinations issued by the Government of the United States, the Government of Canada, and the Government of Mexico. Following a Request for Panel Review, a Binational Panel is composed to review the trade remedy determination being challenged and issue a binding Panel Decision. There are established USMCA Rules of Procedure for Article 10.12 (Binational Panel Reviews), which were adopted by the three governments for panels requested pursuant to Article 10.12(2) of USMCA which requires Notices of Completion of Panel Review to be published in accordance with Rule 82. For the complete Rules, please see https://can-mex-usa-sec.org/secretariat/agreement-accord-acuerdo/usmca-aceum-tmec/rules-regles-reglas/article-article-articulo_10_12.aspx?lang=eng.

Dated: November 17, 2025.
Vidya Desai,
U.S. Secretary, USMCA Secretariat.

[FR Doc. 2025-20324 Filed 11-18-25; 8:45 am]

BILLING CODE 3510-GT-P